DEPARTMENT OF TRANSPORTATION

Surface Transportation Board

[STB Finance Docket No. 35237]

City of Davenport, IA—Construction and Operation Exemption—in Scott County, IA

AGENCY: Surface Transportation Board, DOT.

ACTION: Change of title to the Notice of Availability of the Environmental Assessment.

SUMMARY: This document contains a change to the title of the Notice of Availability of the Environmental Assessment served and published in the Federal Register on Monday, October 26, 2009 (74 FR 55085) by the Board's Section of Environmental Analysis. That notice, published in this docket, was titled “Eastern Iowa Industrial Center Rail Project—Construction and Operation Exemption—City of Davenport, Iowa.” The title should read, “City of Davenport, IA—Construction and Operation Exemption—in Scott County, IA.”

FOR FURTHER INFORMATION, CONTACT: Christa Dean, (202) 245-0299. [Assistance for the hearing impaired is available through the Federal Information Relay Service (FIRS) at: (800) 877-8339.]

SUPPLEMENTARY INFORMATION: On October 26, 2009, the Board served a Notice of Availability of the Environmental Assessment in this docket. The notice is related to a petition filed on July 21, 2009, by the City of Davenport, IA, seeking an exemption under 49 U.S.C. 10502 from the prior approval requirements of 49 U.S.C. 10901 to construct ¹ approximately 2.8 miles of rail line in Scott County, IA. The Board instituted a proceeding in this matter under 49 U.S.C. 10502(b) by decision served October 19, 2009.

¹ In an amendment filed on September 8, 2009, the City clarified that it also seeks operation authority.

Decided: October 28, 2009.
By the Board, Anne K. Quinlan, Acting Secretary.
Kulunie L. Cannon,
Clearance Clerk.

[FR Doc. E9-26364 Filed 11-2-09; 8:45 am]

BILLING CODE 4915-01-P